DEPARTMENT OF STATE

Delegation of Authority DA 543; Designation of Chief International Agreements Officer

By virtue of the authority vested in the Secretary of State by the laws of the United States, including 5 U.S.C. 301, 2104, 2105 and 3101, I hereby appoint Joshua L. Dorosin as an Officer of the United States.

Pursuant to 1 U.S.C. 112b, and section 1 of the State Department Basic Authorities Act (22 U.S.C. 2651a), I hereby designate Joshua L. Dorosin as the Chief International Agreements Officer of the Department of State, with the title of International Agreements Compliance Officer.

This document will be published in the Federal Register.

Dated: August 10, 2023.
Antony J. Blinken,
Secretary of State.

[FR Doc. 2023-18098 Filed 8-22-23; 8:45 am]

BILLING CODE 4710-08-P